DEPARTMENT OF TRANSPORTATION

Federal Aviation Administration

14 CFR Part 39

[Docket No. FAA-2006-23690; Directorate Identifier 2004-NM-133-AD]

RIN 2120-AA64

Airworthiness Directives; Airbus Model A300 B2 and B4 Series Airplanes; and Model A300 B4-600, B4-600R, and F4-600R Series Airplanes, and Model C4-605R Variant F Airplanes (Collectively Called A300-600 Series Airplanes)

AGENCY: Federal Aviation Administration (FAA), Department of Transportation (DOT).

ACTION: Supplemental notice of proposed rulemaking (NPRM); reopening of comment period.

SUMMARY: The FAA is revising an earlier NPRM for an airworthiness directive (AD) that applies to certain Airbus Model A300 B2, A300 B4, and A300-600 series airplanes. The original NPRM would have superseded two existing ADs. One AD currently requires an inspection for cracks of the lower outboard flange of gantry No. 4 in the main landing gear (MLG) bay area, and repair if necessary. The other AD currently requires, among other actions, repetitive inspections of the gantry lower flanges, and repair if necessary. The original NPRM proposed to require new repetitive inspections for cracks in the lower flange of certain gantries, and repair if necessary, which ends the existing inspection requirements. The original NPRM also provided for optional terminating actions for the new repetitive inspections. This new action revises the original NPRM by including additional airplanes that were excluded from the applicability. We are proposing this supplemental NPRM to detect and correct fatigue cracks in the lower flanges of gantries 1 through 5 inclusive in the MLG bay area, which could result in reduced structural integrity of the fuselage, and consequent rapid decompression of the airplane.

DATES: We must receive comments on this supplemental NPRM by June 12, 2006.

ADDRESSES: Use one of the following addresses to submit comments on this proposed AD.

• DOT Docket Web site: Go to http://dms.dot.gov and follow the instructions for sending your comments electronically.

• Governmentwide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, FAA, Transport Airplane Directorate, 1601 Lind Avenue, SW., Renton, Washington 98055-4056; telephone (425) 227-1622; fax (425) 227-1149.

SUPPLEMENTARY INFORMATION:

Comments Invited

We invite you to submit any relevant written data, views, or arguments regarding this proposal. Send your comments to an address listed in the ADDRESSES section. Include the docket number “Docket No. FAA-2006-23690; Directorate Identifier 2004-NM-133-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in ADDRESSES. Comments will be available in the AD docket shortly after the Docket Management System receives them.

Discussion

The FAA issued a notice of proposed rulemaking (NPRM) (the “original NPRM”) to amend 14 CFR part 39 to include an AD that supersedes AD 2003-26-10, amendment 39-13408 (69 FR 867, January 7, 2004), and AD 2004-18-13, amendment 39-13792 (69 FR 55329, September 14, 2004). The original NPRM applied to certain Airbus Model A300 B2 and A300 B4 series airplanes; and Model A300 B4-600, B4-600R, and F4-600R series airplanes, and Model C4-605R Variant F airplanes (collectively called A300-600 series airplanes). The original NPRM was published in the Federal Register on January 26, 2006 (71 FR 4313). The original NPRM proposed to continue to require an inspection for cracks of the lower outboard flange of gantry No. 4 in the main landing gear (MLG) bay area, and repair if necessary. The original NPRM also proposed to continue to require repetitive inspections of the gantry lower flanges, and repair if necessary. In addition, the original NPRM proposed to require new repetitive inspections for cracks in the lower flange of certain gantries, and repair if necessary, which ends the existing inspection requirements. The original NPRM also proposed optional terminating actions for the new repetitive inspections.

Comments

We have considered the following comment on the original NPRM.

Request To Revise the Applicability

Airbus requests that airplanes on which Airbus Modifications 13037 (Airbus Service Bulletins A300-53-0380 and A300-53-6153) and 12413 (Airbus Service Bulletins A300-53-0360 and A300-53-6132), as applicable, have been installed in service, and airplanes on which Airbus Modification 12924 has been incorporated in production be excluded from Table 1—Applicability of the original NPRM. The commenter states that the effectivity of French airworthiness directive F-2005-091 R1, issued September 28, 2005, takes these modification into account, except for Airbus Modification 12924. The commenter states that the Direction Générale de l'Aviation Civile (DGAC), which is the airworthiness authority for France, plans to revise French airworthiness directive F-2005-091 R1 to address Airbus Modification 12924.

We do not agree with Airbus to exclude airplanes on which a particular modification or service bulletin has been accomplished in service. Paragraph (m) of this supplemental NPRM includes an optional terminating action for accomplishing the actions specified in Airbus Service Bulletin A300-53-0380, dated August 5, 2005; Airbus Service Bulletin A300-53-0360, dated May 3, 2002; Airbus Service Bulleitn A300-53-6132, dated February 5, 2002; or Airbus Service Bulletin A300-53-6153, dated August 24, 2005; as applicable. If an operator chooses to accomplish this optional terminating action, it must continue to operate the airplane in that configuration unless an alternative method of compliance is approved. Therefore, we have determined that excluding those airplanes from the applicability of this supplemental NPRM is not appropriate. This difference between French airworthiness directive F-2005-091 R1 and this supplemental NPRM has been coordinated with the DGAC.

We also do not agree with the commenter to exclude airplanes on which Airbus Modification 12924 has been incorporated in production. We have confirmed with the DGAC that the omission of this modification in French airworthiness directive F-2005-091 R1 was an oversight. However, since the issuance of the original NPRM, we have determined that all combinations of the Airbus modifications specified in the effectivity of French airworthiness directive F-2005-091 R1 include an in-service service bulletin. Therefore, we have revised Table 1 of the applicability of this supplemental NPRM to not include any exceptions for accomplishing those Airbus modifications.

Change to Labor Rate

After the original NPRM was issued, we reviewed the figures we have used over the past several years to calculate AD costs to operators. To account for various inflationary costs in the airline industry, we find it necessary to increase the labor rate used in these calculations from $65 per work hour to $80 per work hour. The cost impact information, below, reflects this increase in the specified hourly labor rate.

FAA's Determination and Proposed Requirements of the Supplemental NPRM

The change to the applicability discussed above expands the scope of the original NPRM; therefore, we have determined that it is necessary to reopen the comment period to provide additional opportunity for public comment on this supplemental NPRM.

Costs of Compliance

This proposed AD would affect about 165 airplanes of U.S. registry. The following table provides the estimated costs for U.S. operators to comply with this proposed AD. Not all actions must be completed on all airplanes.

Estimated Costs for Required Actions
Action | Work hours | Average labor rate per hour | Parts | Cost per airplane | Number of U.S.- registered airplanes | Fleet cost
One-time inspection (required by AD 2003-26-10) | 1 | $80 | None | $80 | 23 | $1,840.
One-time inspection (required by AD 2004-18-13) | 4 | 80 | None | $320 | 43 | $13,760.
Repetitive inspections (required by AD 2004-18-13) | 12 | 80 | None | $960, per inspection cycle | 78 | $74,880, per inspection cycle.
Repetitive inspections (new proposed actions) | 16 | 80 | None | $1,280, per inspection cycle | 78 | $99,840, per inspection cycle.

Estimated Costs for Optional Actions
Optional action | Work hours | Average labor rate per hour | Parts | Cost per airplane | Number of U.S.- registered airplanes
Reinforcement specified in Airbus Service Bulletin A300-53-0380, dated August 5, 2005 | 807 | $80 | Between $87,100 and $121,560 depending on kit purchased | Between $151,660 and $186,120 depending on airplane configuration | 23
Reinforcement specified in Airbus Service Bulletin A300-53-6153, dated August 24, 2005 | 807 | 80 | Between $82,460 and $87,070 depending on kit purchased | Between $147,020 and $151,630 depending on airplane configuration | 120
Reinforcement specified in Airbus Service Bulletin A300-53-0360, dated May 3, 2002 | Between 24 and 128 depending on airplane configuration | 80 | Between $250 and $1,000 depending on kit purchased | Between $2,170 and $11,240 depending on airplane configuration | 23
Reinforcement specified in Airbus Service Bulletin A300-53-6132, dated February 5, 2002 | 109 | 80 | Between $260 and $950 depending on kit purchased | Between $8,980 and $9,670 depending on airplane configuration | 120

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendments 39-13408 (69 FR 867, January 7, 2004) and 39-13792 (69 FR 55329, September 14, 2004) and adding the following new airworthiness directive (AD):

Airbus: Docket No. FAA-2006-23690; Directorate Identifier 2004-NM-133-AD.

Comments Due Date

(a) The FAA must receive comments on this AD action by June 12, 2006.

Affected ADs

(b) This AD supersedes ADs 2003-26-10 and 2004-18-13.

Applicability

(c) This AD applies to Airbus airplanes identified in Table 1 of this AD, certificated in any category.

Table 1.—Applicability
Affected Airbus airplanes
(1) All Model A300 B2-1A, B2-1C, B2K-3C, and B2-203 airplanes
(2) All Model A300 B4-2C, B4-103, and B4-203 airplanes
(3) All Model A300 B4-601, B4-603, B4-620, and B4-622 airplanes
(4) All Model A300 B4-605R and B4-622R airplanes
(5) All Model A300 F4-605R and F4-622R airplanes
(6) All Model A300 C4-605R Variant F airplanes

Unsafe Condition

(d) This AD results from a report of a large fatigue crack along the outboard flange of beam No. 4. We are issuing this AD to detect and correct fatigue cracks in the lower flanges of the left and right gantries 1 through 5 inclusive in the main landing gear (MLG) bay area, which could result in reduced structural integrity of the fuselage, and consequent rapid decompression of the airplane.

Compliance

(e) You are responsible for having the actions required by this AD performed within the compliance times specified, unless the actions have already been done.

Restatement of Requirements of AD 2003-26-10

One-Time Inspection

(f) For airplanes on which Airbus Modification 10147 has not been done: At the later of the times specified in paragraphs (f)(1) and (f)(2) of this AD: Do a one-time detailed inspection for cracking of the lower outboard flange of gantry No. 4 in the MLG bay area per paragraph 4.2.1 of Airbus All Operators Telex (AOT) A300-53A0371, Revision 01 (for Model A300 B2 and B4 series airplanes); or AOT A300-53A6145, Revision 01 (for Model A300-600 series airplanes); both dated September 10, 2003; as applicable.

(1) Before the accumulation of 8,000 total flight cycles since the date of issuance of the original Airworthiness Certificate or the date of issuance of the Export Certificate of Airworthiness, whichever is first.

(2) Within 30 days after January 22, 2004 (the effective date AD 2003-26-10).

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repair

(g) Repair any cracking found during the inspection required by paragraph (f) of this AD before further flight, per a method approved by either the Manager, International Branch, ANM-116, Transport Airplane Directorate, FAA; or the Direction Générale de l'Aviation Civile (DGAC) (or its delegated agent).

Restatement of Requirements of AD 2004-18-13

One-Time Inspection and Corrective Action

(h) For Model A300 B2-1A, B2-1C, B2K-3C, and B2-203 airplanes, and Model A300 B4-2C, B4-103, and B4-203 airplanes, on which Airbus Modification 3474 has been done: Prior to the accumulation of 16,300 total flight cycles, or within 500 flight cycles after July 30, 1998 (the effective date of AD 98-13-37), whichever occurs later, perform a one-time ultrasonic inspection for cracking of the gantry lower flanges in the MLG bay area, in accordance with Airbus AOT 53-11, dated October 13, 1997.

(1) If any cracking is detected, prior to further flight, repair in accordance with the AOT.

(2) If no cracking is detected, no further action is required by this paragraph.

Repetitive Inspections and Corrective Actions

(i) For Model A300 B4-601, B4-603, B4-605R, B4-620, B4-622R, C4-605R Variant F airplanes, and F4-605R airplanes, on which Airbus Modification 12169 has not been done in production: Perform the requirements of paragraphs (i)(1), (i)(2), (i)(3), and (i)(4) of this AD, in accordance with Airbus Service Bulletin A300-53-6128, dated March 5, 2001.

(1) At the later of the times specified in paragraphs (i)(1)(i) and (i)(1)(ii) of this AD, perform initial ultrasonic inspections or high frequency eddy current inspections (HFEC) for cracks of the lower flanges of gantries 3, 4, and 5 between fuselage frames FR47 and FR54, in accordance with the Accomplishment Instructions, including the Synoptic Chart contained in Figure 2, sheets 1 through 5 inclusive, of the service bulletin.

(i) In accordance with the thresholds specified in the Synoptic Chart contained in Figure 2, sheets 1 through 5 inclusive, of the service bulletin; or

(ii) Within 200 flight cycles after October 19, 2004 (the effective date AD 2004-18-13).

(2) Perform repetitive ultrasonic inspections or high-frequency eddy current inspections for cracks of the lower flanges of gantries 3, 4, and 5 between fuselage frames FR47 and FR54, in accordance with the thresholds and Accomplishment Instructions, including the Synoptic Chart contained in Figure 2, sheets 1 through 5 inclusive, of the service bulletin.

(3) Perform repairs and reinforcements, in accordance with the thresholds and the Accomplishment Instructions, including the Synoptic Chart contained in Figure 2, sheets 1 through 5 inclusive, of the service bulletin, except as specified in paragraph (i)(4) of this AD.

(4) If a new crack is found during any action required by paragraph (i)(1), (i)(2), or (i)(3) of this AD and the Synoptic Chart contained in Figure 2, sheets 1 through 5 inclusive, of the service bulletin specifies to contact Airbus for appropriate action: Prior to further flight, repair per a method approved by the Manager, International Branch, ANM-116, or the DGAC (or its delegated agent).

Credit for Inspections Accomplished in Accordance with AOT

(j) Any inspection accomplished before October 19, 2004, in accordance with Airbus AOT 53-11, dated October 13, 1997, is acceptable for compliance with the corresponding inspection specified in paragraph (i)(1) of this AD, for that inspection area only. Operators must do the applicable inspections in paragraph (i)(1) of this AD for the remaining inspection areas.

New Requirements of This AD

Repetitive Inspections

(k) At the later of the applicable times specified in the “Threshold (FC)” and “Grace Period” columns of Tables 1 and 2 in paragraph 1.E of the applicable service bulletin specified in Table 2 of this AD: Do an ultrasonic inspection or HFEC inspection, including rework of the pressure diaphragm, for cracks in the lower flanges of the left and right gantries 1 through 5 inclusive between FR47 and FR54, in accordance with the Accomplishment Instructions of the applicable service bulletin in Table 2 of this AD. Repeat the inspection at the applicable times specified in the “Interval (FC)” column of Tables 1 and 2 in paragraph 1.E of the applicable service bulletin in Table 2 of this AD. Accomplishment of the initial inspection ends the inspections required by paragraphs (f), (h), and (i) of this AD.

Table 2.—Service Bulletins
Airbus service bulletin— | For airplanes identified in—
(1) A300-53-0379, Revision 01, dated October 4, 2005 | Paragraphs (c)(1) and (c)(2) of this AD.
(2) A300-53-6152, Revision 01, dated October 4, 2005 | Paragraphs (c)(3) through (c)(6) of this AD inclusive.

Corrective Action

(l) If any crack is detected during any ultrasonic or HFEC inspection required by paragraph (k) of this AD, before further flight, repair the crack in accordance with the Accomplishment Instructions of the applicable service bulletin in Table 2 of this AD, except as provided by paragraph (n) of this AD.

Optional Terminating Actions

(m) Accomplishment of the actions specified in Table 3 of this AD ends the repetitive inspections required by paragraph (k) of this AD.

Table 3.—Optional Terminating Actions
Before or at the same time with— | Reinforce— | By doing all the actions in accordance with the Accomplishment Instructions of Airbus Service Bulletin— | For airplanes identified in—
(1) The actions required by paragraph (k) of this AD and the action specified in paragraph (m)(2) of this AD | The flanges of the left and right portals 1 through 5 inclusive between FR47 and FR54 of the landing gear, including a rotating probe inspection for cracks of holes and repair if necessary | A300-53-0380, dated August 5, 2005, except as provided by paragraph (n) of this AD A300-53-6153, dated August 24, 2005, except as provided by paragraph (n) of this AD | Paragraphs (c)(1) and (c)(2) of this AD. Paragraphs (c)(3) through (c)(6) of this AD inclusive.
(2) The actions required by paragraph (k) of this AD | Portals 3, 4, and 5 of the plates/skin | A300-53-0360, dated May 3, 2002, except as provided by paragraph (n) of this AD | Paragraphs (c)(1) and (c)(2) of this AD
| > | A300-53-6132, dated February 5, 2002, except as provided by paragraph (n) of this AD. | Paragraphs (c)(3) through (c)(6) of this AD inclusive

Repair of Certain Cracks

(n) Where the applicable service bulletin recommends contacting Airbus for appropriate action: Before further flight, repair the crack in accordance with a method approved by the Manager, International Branch, ANM-116; or the DGAC (or its delegated agent).

Credit for Original Service Bulletins

(o) Accomplishing the inspections and repair before the effective date of this AD in accordance with Airbus Service Bulletin A300-53-0379, dated May 9, 2005, or Airbus Service Bulletin A300-53-6152, dated May 9, 2005, as applicable, is acceptable for compliance with the corresponding requirements of paragraphs (k) and (l) of this AD.

No Inspection Report

(p) Although the service bulletins in this AD specify to submit certain information to the manufacturer, this AD does not include that requirement.

Alternative Methods of Compliance (AMOCs)

(q)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(r) French airworthiness directive F-2005-091 R1, issued September 28, 2005, also addresses the subject of this AD.

Issued in Renton, Washington, on May 8, 2006.
Ali Bahrami,
Manager, Transport Airplane Directorate, Aircraft Certification Service.

[FR Doc. E6-7477 Filed 5-16-06; 8:45 am]

BILLING CODE 4910-13-P